DEPARTMENT OF HOMELAND SECURITY

Coast Guard

[Docket No. USCG-2011-0539]

National Offshore Safety Advisory Committee; Vacancies

AGENCY: Coast Guard, DHS.

ACTION: Request for applications.

SUMMARY: The Coast Guard seeks applications for membership on the National Offshore Safety Advisory Committee. This Committee advises the Secretary of Department of Homeland Security on matters and actions concerning activities directly involved with or in support of the exploration of offshore mineral and energy resources insofar as they relate to matters within Coast Guard jurisdiction.

DATES: Applicants should submit a cover letter and resume in time to reach the Alternate Designated Federal Officer (ADFO) on or before August 22, 2011.

ADDRESSES: Applicants should send their cover letter and resume to the following address: Commandant (CG-5222), Attn: Vessel and Facility Operations Standards, U.S. Coast Guard, 2100 Second Street, SW., STOP 7126, Washington, DC 20593-7126; or by calling (202) 372-1386; or by faxing (202) 372-1926; or by e-mailing to Kevin.Y.Pekarek2@uscg.mil.

This notice, is available in our online docket, USCG-2011-0539, at http://www.regulations.gov.

FOR FURTHER INFORMATION CONTACT: Kevin Y. Pekarek, ADFO of National Offshore Safety Advisory Committee (NOSAC); telephone (202) 372-1386; fax (202) 372-1926; or e-mail at Kevin.Y.Pekarek2@uscg.mil.

SUPPLEMENTARY INFORMATION: The National Offshore Safety Advisory Committee (NOSAC) is a Federal advisory committee under 5 U.S.C. App. (Pub. L. 92-463). It was established under authority of Title 6 U.S.C. section 451 and advises the Secretary of Homeland Security on matters affecting the offshore industry.

The Committee is expected to meet approximately twice per year as called for by its charter and normally meets in Houston, Texas or New Orleans, Louisiana. It may also meet for extraordinary purposes. NOSAC or its subcommittees may conduct telephonic meetings at other times throughout the year when necessary for specific tasking.

We will consider applications for five positions that will become vacant on January 31, 2012.

(a) One member representing enterprises specializing in the support, by offshore supply vessels or other vessels, of offshore mineral and oil operations including geophysical services;

(b) One member representing construction of offshore exploration and recovery facilities;

(c) One member representing employees of companies engaged in offshore operations, who should have recent practical experience on vessels or offshore units involved in the offshore mineral and energy industry;

(d) One member representing enterprises specializing in offshore drilling; and,

(e) One member representing companies engaged in production of petroleum.

To be eligible, applicants for all available positions should have expertise and/or knowledge and experience regarding the technology, equipment and techniques that are used or are being developed for use in the exploration for and the recovery of offshore mineral resources.

Registered lobbyists are not eligible to serve on federal advisory committees. Registered lobbyists are lobbyists required to comply with provisions contained in the Lobbying Disclosure Act of 1995 (Pub. L. 110-81, as amended). Each NOSAC Committee member serves a term of office of up to three years. Members may be considered to serve consecutive terms. All members serve at their own expense and receive no salary or reimbursement of travel expenses, or other compensation from the Federal Government.

In support of the policy of the Coast Guard on gender and ethnic nondiscrimination, we encourage qualified men and women of all racial and ethnic groups to apply. The Coast Guard values diversity; all different characteristics and attributes of persons that enhance the mission of the Coast Guard.

If you are interested in applying to become a member of the Committee, send your cover letter and resume to Kevin Y. Pekarek, ADFO of NOSAC at Commandant (CG-5222)/NOSAC, U.S. Coast Guard, 2100 Second Street, SW., STOP 7126, Washington, DC 20593-7126. Send your cover letter and resume in time for it to be received by the ADFO on or before August 22, 2011.

To visit our online docket, go to http://www.regulations.gov, enter the docket number for this notice (USCG-2011-0539) in the Search box, and click “Go.” Please do not post your resume on this site.

Dated: June 30, 2011.
F. J. Sturm,
Acting Director of Commercial Regulations and Standards.

[FR Doc. 2011-16913 Filed 7-5-11; 8:45 am]

BILLING CODE 9110-04-P